DEPARTMENT OF THE INTERIOR

Fish and Wildlife Service

[FWS-HQ-NWRS-2023-N014; FXGO1664091HCC0-FF09D00000-190]

Hunting and Wildlife Conservation Council; Request for Nominations

AGENCY: Fish and Wildlife Service, Interior.

ACTION: Request for nominations.

SUMMARY: The U.S. Department of the Interior and Department of Agriculture are seeking member nominations to the Hunting and Wildlife Conservation Council (Council) to fill one vacancy for a representative from a State fish and wildlife management agency. The Council provides recommendations to the Federal Government, through the Secretary of the Interior and the Secretary of Agriculture, regarding the establishment and implementation of existing and proposed policies and authorities with regard to wildlife and habitat conservation endeavors that benefit wildlife resources; encourage partnership among the public, sporting conservation organizations, wildlife-associated recreation interests, and Federal, State, Tribal, and territorial governments; and benefit fair-chase recreational hunting and safe recreational shooting sports.

DATES: Nominations for the Council must be submitted by April 24, 2023.

ADDRESSES: You may submit nominations via email to doug_hobbs@fws.gov.

FOR FURTHER INFORMATION CONTACT: Douglas Hobbs, Designated Federal Officer (DFO), by telephone at (703) 358-2336, or by email at doug_hobbs@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council is established under the authority of the Secretaries of the Department of the Interior (DOI) and the Department of Agriculture and regulated by the Federal Advisory Committee Act, as amended (FACA; 5 U.S.C. 10). The Council's duties are strictly advisory and consist of, but are not limited to, providing recommendations for implementation of Executive Order (E.O.) 13443, Facilitation of Hunting Heritage and Wildlife Conservation; E.O. 14008, Tackling the Climate Crisis at Home and Abroad; and Secretarial Order (S.O.) 3362, Improving Habitat Quality in Western Big Game Winter Range and Migration Corridors. Duties include, but are not limited to:

A. Assessing and quantifying implementation of E.O. 13443, E.O. 14008, and S.O. 3362 across relevant departments, agencies, and offices and making recommendations to enhance and expand their implementation as identified;

B. Making recommendations regarding policies and programs that accomplish the following objectives:

1. Conserve and restore wetlands, grasslands, forests, and other important wildlife habitats, and improve management of rangelands and agricultural lands to benefit wildlife;

2. Promote opportunities for fair chase hunting and safe recreational shooting sports and wildlife-associated recreation on public and private lands;

3. Encourage hunting and recreational shooting sports safety, including by developing sighting-in ranges on public lands;

4. Recruit and retain hunters;

5. Increase public awareness of the importance of wildlife conservation and the social and economic benefits of fair chase hunting, safe recreational shooting sports, and wildlife-associated recreation; and

6. Encourage coordination among the public; the hunting and shooting sports communities; wildlife conservation groups; wildlife-associated recreation interests; and Federal, State, Tribal, and territorial governments.

The Secretaries appoint members and their alternates to the Council to serve up to a 3-year term. The Council will not exceed 18 discretionary primary members, up to 18 alternate members, and 4 ex officio members. Ex officio members include:

• Secretary of the Interior or designated DOI representatives;

• Secretary of Agriculture or designated Department of Agriculture representatives; and

• Executive Director, Association of Fish and Wildlife Agencies.

The Secretaries select remaining members from among, but not limited to, the organization/interests listed below. These members must be senior-level representatives of their organization and/or have the ability to represent their designated constituencies.

• State fish and wildlife management agencies;

• Wildlife and habitat conservation/management organizations;

• Upland bird hunting organizations;

• Waterfowl hunting organizations;

• Big game hunting organizations;

• Shooting sports interests;

• Archery interests;

• Wildlife-associated recreation interests;

• Tourism, outfitter, and/or guide industries related to hunting and/or wildlife conservation;

• Tribal resource management organizations;

• Agriculture interests;

• Ranching interests; and

• Veterans' service organizations.

Vacancies to Fill

Nominations are sought to fill one primary member vacancy to represent State fish and wildlife management agencies.

Nomination Method and Information

Nominations should include a cover letter or email, and resume providing an adequate description of the nominee's qualifications, including information that would enable DOI to make an informed decision regarding meeting the membership requirements of the Council and the national interest potentially represented, and to permit DOI to contact a potential member.

Members of the Council serve without compensation. However, while away from their homes or regular places of business, Council and subcommittee members engaged in Council or subcommittee business that the DFO approves may be allowed travel expenses, including per diem in lieu of subsistence, as authorized by 5 U.S.C. 5703, in the same manner as persons employed intermittently in Federal Government service.

Public Disclosure of Comments: Before including your address, phone number, email address, or other personal identifying information in your comment, you should be aware that your entire comment—including your personal identifying information—may be made publicly available at any time. While you can ask us in your comment to withhold your personal identifying information from public review, we cannot guarantee that we will be able to do so.

(Authority: 5 U.S.C. 10)

Barbara W. Wainman,
Assistant Director—Office of Communications.

[FR Doc. 2023-06076 Filed 3-23-23; 8:45 am]

BILLING CODE 4333-15-P